DEPARTMENT OF VETERANS AFFAIRS

[OMB Control No. 2900-NEW]

Agency Information Collection Activity Under OMB Review: Election To Waive, Retain, or Re-Elect Due Process Rights if in Receipt of Concurrent Active Duty Service Pay and Disability Compensation Pay

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-NEW”.

FOR FURTHER INFORMATION CONTACT: Maribel Aponte, Office of Enterprise and Integration, Data Governance Analytics (008), 1717 H Street NW, Washington, DC 20006, (202) 266-4688 or email maribel.aponte@va.gov. Please refer to “OMB Control No. 2900-NEW” in any correspondence.

SUPPLEMENTARY INFORMATION:

Authority: 38 U.S.C. 501, 5101(a), and 5304(c).

Title: Election to Waive, Retain, or Re-Elect Due Process Rights if in Receipt of Concurrent Active Duty Service Pay and Disability Compensation Pay (VA Form 21-10213).

OMB Control Number: 2900-NEW.

Type of Review: New collection.

Abstract: VA Form 21-10213, will be used to determine whether an election to waive due process rights is acknowledged, re-elected, or cancelled when a veteran is in receipt of concurrent active duty service pay and disability compensation pay. Without this collection of information, determination of election would not be possible.

An agency may not conduct or sponsor, and a person is not required to respond to a collection of information unless it displays a currently valid OMB control number. The Federal Register Notice with a 60-day comment period soliciting comments on this collection of information was published at 86 FR 166 on August 31, 2021, pages 48819 and 48820.

Affected Public: Individuals or Households.

Estimated Annual Burden: 8,333.

Estimated Average Burden per Respondent: 5 minutes.

Frequency of Response: One time.

Estimated Number of Respondents: 100,000.

By direction of the Secretary.
Maribel Aponte,
VA PRA Clearance Officer, Office of Enterprise and Integration, Data Governance Analytics, Department of Veterans Affairs.

[FR Doc. 2021-24420 Filed 11-8-21; 8:45 am]

BILLING CODE 8320-01-P